DEPARTMENT OF STATE

[Public Notice 4325]

Bureau of Nonproliferation; Determination Under the Arms Export Control Act

AGENCY: Department of State.

ACTION: Notice.

Pursuant to section 654(c) of the Foreign Assistance Act of 1961, as amended, notice is hereby given that the Under Secretary of State for Arms Control and International Security has made a determination pursuant to section 73 of the Arms Export Control Act and has concluded that publication of the determination would be harmful to the national security of the United States.

Dated: March 27, 2003.
John S. Wolf,
Assistant Secretary of State for Nonproliferation, Department of State.

[FR Doc. 03-7942 Filed 4-1-03; 8:45 am]

BILLING CODE 4710-25-P